DEPARTMENT OF LABOR

Employment and Training Administration

[TA-W-37,717]

CV Materials, Ltd.; Urbana, OH; Notice of Termination of Investigation

Pursuant to Section 221 of the Trade Act of 1974, an investigation was initiated on May 30, 2000, in response to a petition filed on behalf of workers at CV Materials, Ltd., Urbana, Ohio.

The company official submitting the petition has requested that the petition be withdrawn. Consequently, further investigation in this case would serve no purpose, and the investigation has been terminated.

Signed in Washington, D.C., this 24th day of July, 2000.
Grant D. Beale,
Program Manager, Division of Trade Adjustment Assistance.

[FR Doc. 00-19882 Filed 8-4-00; 8:45 am]

BILLING CODE 4510-30-M